DEPARTMENT OF TRANSPORTATION

Surface Transportation Board

[STB Docket No. FD 35852]

Canaveral Port Authority—Petition for Exemption To Construct and Operate a Rail Line Extension to Port Canaveral, Florida

AGENCY: Surface Transportation Board, DOT.

ACTION: Notice of Intent To Prepare an Environmental Impact Statement; Notice of Availability of the Draft Scope of Study for the Environmental Impact Statement; Notice of Scoping Meetings; and Request for Comments on Draft Scope.

SUMMARY: The Canaveral Port Authority (CPA) plans to file a request with the Surface Transportation Board (Board) pursuant to 49 U.S.C. 10502 for authority to construct and operate approximately 11 miles of new rail line to Port Canaveral (Port) in Brevard County, Florida. The proposed Port Canaveral Rail Extension (PCRE) would also utilize approximately 17 miles of existing rail line at the National Aeronautics and Space Administration's (NASA) John F. Kennedy Space Center (KSC) to make a connection with a main line of the Florida East Coast Railway (FEC). The proposed PCRE would provide the Port with direct access to freight rail service. The new rail line would begin near the Port's North Cargo Area, extend west across the Banana River, enter KSC on Merritt Island south of Kars Park, and then turn north through KSC grounds where it would connect with KSC's existing rail line.

The construction and operation of the proposed PCRE has the potential to result in significant environmental impacts; therefore, the Board's Office of Environmental Analysis (OEA) has determined that the preparation of an Environmental Impact Statement (EIS) is appropriate to satisfy the Board's obligations under the National Environmental Policy Act of 1969 (NEPA), as amended (42 U.S.C. 4321 et seq.). The purpose of this Notice of Intent is to inform stakeholders—including members of the public; Tribes; federal, state, and local agencies; environmental groups; potential shippers and other parties—interested in or potentially affected by the proposed project of the decision to prepare an EIS and to issue a Draft Scope of Study for the EIS for review and comment. OEA will hold public scoping meetings as part of the NEPA process. Written comments submitted during scoping will assist OEA in issuing a Final Scope of Study that defines the range of actions, alternatives, and impacts to be considered in the EIS. Public meeting dates and locations, along with the Draft Scope of Study, are provided below. This Notice of Intent initiates the EIS process and scoping.

Dates and Locations: The public scoping meetings will be held at the following locations on the dates listed:

• November 18, 2014; 5:00-8:00 p.m.; John Henry Jones Gymnatorium, Titusville Campus of Eastern Florida State College, 1311 North U.S. Route 1, Titusville, Florida; and

• November 19, 2014; 5:00-8:00 p.m.; Convention Center, Radisson Resort at the Port, 8701 Astronaut Boulevard, Cape Canaveral, Florida.

The scoping meetings will be held in an open house format for the first hour followed by a brief presentation by OEA. After the presentation, interested parties will be provided an opportunity for public comment at an open microphone for the balance of the three-hour scoping meeting, as needed. A court reporter will transcribe the public comments.

The meeting locations comply with the Americans with Disabilities Act of 1990 (42 U.S.C. 12101 et seq.). Persons that need special accommodations should contact OEA's project manager listed below.

Interested parties are invited to submit written comments on the Draft Scope of Study, potential alternative routes for the proposed rail line, and other environmental issues and concerns by December 19, 2014 to assure full consideration during the scoping process. OEA will issue a Final Scope of Study after the close of the scoping comment period.

Summary of the Board's Environmental Review Process: The NEPA process is intended to assist the Board and the public in identifying and assessing the potential environmental consequences of a proposed action before a decision on the proposed action is made. OEA is responsible for ensuring that the Board complies with NEPA and related environmental statutes. The first stage of the EIS process is scoping. Scoping is an open process for determining the range of actions, alternatives and potential scope of environmental impacts or issues to be addressed in the EIS. As part of its scoping process, OEA has developed, and has made available for public comment in this notice, a Draft Scope of Study for the EIS. Scoping meetings will be held in the project area to provide further opportunities for public involvement and input during the scoping process. In addition to comments on the Draft Scope of Study, interested parties are encouraged to comment on potential alternative routes for the proposed rail line. At the conclusion of the scoping and comment period, OEA will issue a Final Scope of Study for the EIS. The Final Scope of Study will identify the alternative rail line routes to be carried forward for detailed analysis in the EIS.

After issuing the Final Scope of Study, OEA will prepare a Draft EIS for the project. The Draft EIS will address the environmental issues and concerns identified during the scoping process and assess and compare alternatives, including the no-action alternative. The Draft EIS will also contain OEA's preliminary recommendations for environmental mitigation measures. Upon its completion, the Draft EIS will be made available for review and comment by the public, government agencies, and other interested parties. OEA will prepare a Final EIS that considers comments on the Draft EIS. In reaching its decision on this case, the Board will consider the Draft EIS, the Final EIS, all environmental comments, and OEA's recommendations regarding the environmental preferred alternative and environmental mitigation measures.

OEA has invited several agencies to participate in this EIS process as cooperating agencies on the basis of their special expertise or jurisdiction by law. These agencies include but may not be limited to: NASA; U.S. Army Corps of Engineers; and U.S. Fish and Wildlife Service. OEA is also initiating government-to-government consultation with potentially affected tribes, including but not limited to: Seminole Tribe of Florida, Seminole Nation of Oklahoma, and Miccosukee Tribe of Indians of Florida.

Filing Environmental Comments: Scoping comments submitted by mail should be addressed to: Dave Navecky, Surface Transportation Board, 395 E Street SW., Washington, DC 20423-0001, Attention: Environmental Filing, Docket No. FD 35852.

Scoping comments may also be submitted electronically on the Board's Web site, www.stb.dot.gov, by clicking on the “E-FILING” link on the home page and then selecting “Environmental Comments.” Log-in accounts are not needed to file environmental comments electronically, and comments may be typed into the text box provided or attached as a file. If you have difficulties with the e-filing process, please call 202-245-0350.

Please refer to Docket No. FD 35852 in all correspondence, including e-filings, addressed to the Board.

Scoping Comments are due by December 19, 2014.

FOR FURTHER INFORMATION CONTACT: Dave Navecky by mail at Office of Environmental Analysis, Surface Transportation Board, 395 E Street SW., Washington, DC 20423-0001 or by phone at 202-245-0294. Assistance for the hearing impaired is available through the Federal Information Relay Service (FIRS) at 1-800-877-8339. The Web site for the Board is www.stb.dot.gov. Project specific information on the Board's Web site may be found by placing your cursor on the “Environmental Matters” button, then clicking on the “Key Cases” button in the drop down menu and then selecting “Port Canaveral Rail Extension.” For further information about the Board's environmental review process and this EIS, you may also visit a Board-sponsored project Web site at www.portcanaveralraileis.com. The project Web site includes a map of the project area including CPA's proposed alignment. However, the final list of alternatives to be carried forward in the EIS for detailed study will be determined by the Board, in consultation with the cooperating agencies, following the scoping period and consideration of scoping comments.

Draft Scope of Study for the EIS

Purpose and Need

According to CPA, the principal purpose of the proposed rail extension is to provide it with the capability to transport primarily bulk, break bulk (i.e., packaged, non-containerized cargo), and containerized goods to and from Port Canaveral by rail.

The Port currently has no on-dock or near-dock freight rail service, and the only access to rail service is by truck. The Port's current access to the Interstate Highway System (I-95) requires traveling two miles on State Road 401 and a 14-mile stretch of heavily traveled State Road 528. The construction of a rail line would satisfy the need for an additional mode of transportation for the movement of bulk and break-bulk materials and containerized freight to and from the Port. Additionally, the PCRE would facilitate future cargo growth at the Port.

The proposed PCRE involves a request by CPA for Board approval to operate KSC's existing 17 miles of rail line and to construct and operate an approximately 11-mile rail line extension to the Port. The CPA-proposed alignment would also maintain rail support to NASA KSC government and commercial space operations. The proposed project is not a federal government-proposed or sponsored project. Thus, the project's purpose and need should be informed by both the applicant's goals and the agency's enabling statute, here, 49 U.S.C. 10901. Section 10901 provides that the Board must approve a construction request unless it finds that the construction is “inconsistent with the public convenience and necessity.” Thus, the statute creates a presumption that rail construction is in the public interest and will be approved.

Proposed Action and Alternatives

The proposed new rail line would extend from the Port's North Cargo Area, cross over the Banana River, enter KSC on Merritt Island south of Kars Park, continue north up the east side of KSC, connect with the KSC's existing rail facilities, continue on KSC's existing rail line, which crosses the Indian River via the Jay-Jay Bridge, and then connect with the FEC mainline near Titusville, Florida.

The new rail line would consist of a single track constructed of continuous welded rail and concrete ties. Other major elements of the proposed project would include a right-of-way of up to 100 feet in width and crossings of local roads and utility corridors.

CPA would operate its trains on both the new rail line and on KSC's existing rail line to the FEC connection. Initially, the trains would move approximately 170 roundtrip hopper and box cars per week. Within 2.5 years after the proposed rail operations begin, CPA estimates that an additional 50 roundtrip double-stacked container cars could also move on the proposed PCRE. CPA estimates that it would operate approximately three to four trains per week with the trains moving at approximately 10 miles per hour.

The EIS will analyze and compare the potential impacts of (1) construction and operation of a range of reasonable and feasible alternative routes for the proposed PCRE and (2) the no-action alternative (i.e., denial of the request).

Environmental Impact Analysis

Proposed New Construction and Operation

Analyses in the EIS will address the proposed activities associated with the construction and operation of the PCRE and their potential environmental impacts, as appropriate.

Impact Categories

The EIS will analyze potential direct, indirect, and cumulative impacts ¹ of CPA's proposed construction and operation and a range of reasonable and feasible alternatives, or in the case of the no-action alternative, the lack of these activities.

¹ NEPA requires the Board to consider direct, indirect, and cumulative impacts. Direct and indirect impacts are both caused by the action. 40 CFR 1508.8(a)-(b). A cumulative impact is the “incremental impact of the action when added to other past, present, and reasonably foreseeable future actions regardless of what agency (Federal or non-federal) or person undertakes such other actions.” 40 CFR 1508.7.

Impact areas addressed will include the analysis of transportation systems, safety, land use, recreation, biological resources, water resources, including wetlands and other waters of the U.S., navigation, geology and soils, air quality and climate, noise and vibration, energy resources, socioeconomics as they relate to physical changes in the environment, cultural and historic resources, aesthetics and environmental justice. Other categories of potential impacts may also be included as a result of comments received during the scoping process or on the Draft EIS. The EIS will include a discussion of each of these categories as they currently exist in the project area and will address the potential direct, indirect, and cumulative impacts of each alternative being studied in detail on each category, as described below:

1. Transportation Systems

The EIS will:

a. Evaluate the potential impacts resulting from construction and operation of each alternative on the existing transportation network in the project area.

b. Propose mitigation measures to avoid, minimize or eliminate potential project impacts to transportation systems, as appropriate.

2. Safety

The EIS will:

a. Describe existing road/rail grade crossing safety and analyze the potential for an increase in accidents related to the proposed new rail operations, as appropriate.

b. Describe existing rail operations and analyze the potential for increased probability of train accidents, as appropriate.

c. Evaluate the potential for disruption and delays to the movement of emergency vehicles.

d. Propose mitigation measures to avoid, minimize or eliminate potential project impacts to safety, as appropriate.

3. Land Use

The EIS will:

a. Evaluate the potential impacts of each alternative on existing land use patterns within the project area and identify those land uses that would be potentially impacted by the proposed new rail line construction.

b. Analyze the potential impacts associated with each alternative to land uses identified within the project area. Such potential impacts could include incompatibility with existing land use and conversion of land to railroad use.

c. Evaluate consistency with Florida Coastal Management Program in compliance with the Coastal Zone Management Act.

d. Propose mitigation measures to avoid, minimize or eliminate potential impacts to land use, as appropriate.

4. Recreation

The EIS will:

a. Evaluate existing conditions and the potential impacts of each alternative, and their operation, on recreational areas and opportunities for recreational activities provided in the project area.

b. Propose mitigation measures to avoid, minimize or eliminate potential project impacts on recreational areas and opportunities for recreational activities, as appropriate.

5. Biological Resources

The EIS will:

a. Evaluate the existing biological resources within the project area including vegetative communities (including seagrasses), wildlife, fisheries, marine mammals, and federal and state threatened or endangered species, and analyze the potential impacts to these resources resulting from each alternative. Several protected species will be addressed, including, but not limited to, the bald eagle, Florida scrub jay, gopher tortoise, manatee, eastern indigo snake, wood stork, and southeastern beach mouse.

b. Describe the Merritt Island National Wildlife Refuge and any other relevant wildlife sanctuaries, refuges, national or state parks, forests, or grasslands, and evaluate the potential impacts to these resources resulting from each alternative.

c. Propose mitigation measures to avoid, minimize, eliminate, or compensate for potential impacts to biological resources, as appropriate.

6. Water Resources

The EIS will:

a. Describe the existing surface water and groundwater resources within the project area, including the Atlantic Ocean, lakes, rivers, streams, ponds, wetlands, and floodplains and analyze the potential impacts on these resources resulting from each alternative.

b. Describe the permitting requirements for the various alternatives with regard to wetlands, river crossings, water quality, floodplains, and erosion control.

c. Propose mitigation measures to avoid, minimize, eliminate, or compensate for potential project impacts to water resources, as appropriate.

7. Navigation

The EIS will:

a. Identify existing navigable waterways within the project area and analyze the potential impacts on navigability resulting from each alternative.

b. Describe the permitting requirements for the various alternatives with regard to navigation.

c. Propose mitigation measures to avoid, minimize or eliminate potential impacts to navigation, as appropriate.

8. Geology and Soils

The EIS will:

a. Describe the geology, soils, and seismic conditions found within the project area, including unique or problematic geologic formations or soils, prime farmland, and hydric soils, and analyze the potential impacts on these resources resulting from each alternative.

b. Evaluate any potential measures to avoid or construct through unique or problematic geologic formations or soils.

c. Propose mitigation measures to avoid, minimize or eliminate potential project impacts to geology and soils, as appropriate.

9. Air Quality and Climate

The EIS will:

a. Evaluate the air emissions from the potential operation of trains on the proposed rail line, including potential greenhouse gas emissions, as appropriate.

b. Evaluate the potential air quality impacts resulting from the proposed new rail line construction activities.

c. Evaluate the potential impacts of the proposed project on global climate change and the potential impacts of global climate change on the proposed project.

d. Propose mitigation measures to avoid, minimize or eliminate potential project impacts, as appropriate.

10. Noise and Vibration

The EIS will:

a. Describe the potential noise and vibration impacts during the proposed new rail line construction resulting from each alternative.

b. Describe the potential noise and vibration impacts of the proposed new rail line operation resulting from each alternative.

c. Propose mitigation measures to avoid, minimize or eliminate potential project impacts to sensitive noise receptors, as appropriate.

11. Energy Resources

The EIS will:

a. Describe and evaluate the potential impact of the proposed project on the distribution of energy resources in the project area resulting from each alternative.

b. Propose mitigation measures to avoid, minimize or eliminate potential project impacts to energy resources, as appropriate.

12. Socioeconomics

The EIS will:

a. Analyze the effects of a potential influx of construction workers to the project area and the potential increase in demand for local services interrelated with natural or physical environmental effects.

b. Propose mitigation measures to avoid, minimize or eliminate potential project-related adverse impacts to social and economic resources, as appropriate.

13. Cultural and Historic Resources

The EIS will:

a. Identify historic buildings, structures, sites, objects, or districts eligible for listing on or listed on the National Register of Historic Places (historic properties) within the area of potential effects for each alternative. The cultural resources identified will be categorized into three major groups: tribal resources, archaeological resources, and built resources.

b. Consult with federally recognized Native American tribes to identify properties with religious and cultural significance to the tribes within the area of potential effects for each alternative (tribal resources), and analyze potential project impacts to them.

c. Identify prehistoric-era and historic-era archaeological resources by using professionals who meet the Secretary of the Interior Professional Qualifications Standards (SOIPQS) in the discipline of archaeology, and analyze potential project impacts to them.

d. Identify built resources by using professionals who meet the SOIPQS in the disciplines of history or architectural history, and analyze potential project impacts to them.

e. Propose measures to avoid, minimize, or mitigate potentially adverse project impacts to tribal resources, built resources, and archaeological resources that are historic properties, as appropriate.

14. Aesthetics

The EIS will:

a. Describe the potential impacts of the proposed new rail line construction on any areas within the project area identified or determined to be of high visual quality.

b. Describe the potential impacts of the proposed new rail line construction on any waterways considered for or designated as wild and scenic.

c. Propose mitigation measures to avoid, minimize or eliminate potential project impacts on aesthetics, as appropriate.

15. Environmental Justice

The EIS will:

a. Evaluate the potential impacts resulting from each alternative on local and regional minority and low-income populations.

b. Propose mitigation measures to avoid, minimize or eliminate potential project impacts on environmental justice populations, as appropriate.

16. Cumulative Impacts

The EIS will evaluate the cumulative and incremental impacts of the proposed project when added to other past, present, and reasonably foreseeable future actions in the project area, as appropriate.

By the Board.
Victoria Rutson,
Director, Office of Environmental Analysis.
Brendetta S. Jones,
Clearance Clerk.

[FR Doc. 2014-25464 Filed 10-24-14; 8:45 am]

BILLING CODE 4915-01-P